DEPARTMENT OF COMMERCE

International Trade Administration

A-549-807

Certain Carbon Steel Butt-Weld Pipe Fittings from Thailand: Notice of Rescission of Antidumping Duty Administrative Review

AGENCY: Import Administration, International Trade Administration, Department of Commerce.

ACTION: Notice of Rescission of Antidumping Duty Administrative Review.

SUMMARY: In response to a request from Thai Benkan Company Limited of Thailand (TBC), a foreign producer and exporter of subject merchandise, the Department of Commerce (the Department) initiated an administrative review of the antidumping duty order on certain carbon steel butt-weld pipe fittings (pipe fittings) from Thailand. The period of review (POR) is July 1, 2003, through June 30, 2004. For the reasons discussed below, we are rescinding this administrative review.

EFFECTIVE DATE: November 10, 2004.

FOR FURTHER INFORMATION CONTACT: Zev Primor or Mark Manning, AD/CVD Operations, Office 4, Import Administration, International Trade Administration, U.S. Department of Commerce, 14th Street and Constitution Avenue, NW, Washington, DC 20230; telephone (202) 482-4114 or 482-5253, respectively.

SUPPLEMENTARY INFORMATION:

Scope of the Order

The product covered by this order is certain carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). Carbon steel pipe fittings are currently classifiable under subheading 7307.93.30 of the Harmonized Tariff Schedule of the United States (HTSUS). Although the HTSUS subheadings are provided for convenience and customs purposes, our written description of the scope of this proceeding is dispositive.

Background

On July 1, 2004, the Department published a notice of opportunity to request an administrative review of the antidumping duty order on pipe fittings from Thailand. See Antidumping or Countervailing Duty Order, Finding, or Suspended Investigation; Opportunity To Request Administrative Review, 69 FR 39903 (July 1, 2004). On August 30, 2004, pursuant to a request made by TBC, the Department initiated an administrative review of the antidumping duty order on pipe fittings from Thailand. See Initiation of Antidumping and Countervailing Duty Administrative Reviews and Requests for Revocation in Part, 69 FR 52857 (August 30, 2004). On October 29, 2004, TBC timely withdrew its request for an administrative review of pipe fittings from Thailand.

Rescission of Review

If a party that requested a review withdraws the request within 90 days of the date of publication of notice of initiation of the requested review, the Secretary will rescind the review pursuant to 19 CFR 351.213(d)(1). In this case, TBC withdrew its request for an administrative review within 90 days from the publication date of the initiation. No other interested party requested a review and we have received no comments regarding TBC's withdrawal of its request for a review. Therefore, we are rescinding the initiation of this review of the antidumping duty order on pipe fittings from Thailand.

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

This notice is in accordance with section 777(i)(1) of the Tariff Act of 1930, as amended, and 19 CFR 251.213(d)(4).

Dated: November 4, 2004.
Jeffrey A. May,
Deputy Assistant Secretary for Import Administration.

[FR Doc. E4-3128 Filed 11-9-04; 8:45 am]

BILLING CODE 3510-DS-S